DEPARTMENT OF TRANSPORTATION

Federal Aviation Administration

14 CFR Part 36

[Docket No. FAA-2012-0948; Amdt. No. 36-30]

RIN 2120-AJ96

Stage 3 Helicopter Noise Certification Standards; Correction

AGENCY: Federal Aviation Administration (FAA), DOT.

ACTION: Final rule; correction.

SUMMARY: The Federal Aviation Administration (FAA) published in the Federal Register of March 4, 2014 a document adopting more stringent noise certification standards for helicopters that are certificated in the United States (U.S.). Inadvertently the incorrect amendment number was assigned. This document corrects the amendment number cited in the heading of the final rule.

DATES: This correction is effective April 14, 2014.

FOR FURTHER INFORMATION CONTACT: Katherine Haley, Office of Rulemaking, ARM-203, Federal Aviation Administration, 800 Independence Avenue SW., Washington, DC 20591; telephone (202) 267-5708; fax (202) 267-5075; email ralen.gao@faa.gov.

SUPPLEMENTARY INFORMATION: The FAA published a document in the Federal Register of March 4, 2014 (79 FR 12040) as Amendment Number 36-29. In FR Doc. 2014-04479, Amdt. No. 36-29 is incorrect. This document corrects the amendment number published on March 4, 2014.

In FR Doc. 2014-04479, beginning on page 12040 in the Federal Register of March 4, 2014, make the following correction:

On page 12040, in the second column heading, correct the amendment number from “36-29” to “36-30”.

Issued in Washington, DC, on April 4, 2014.
Lirio Liu,
Director, Office of Rulemaking.

[FR Doc. 2014-07941 Filed 4-11-14; 8:45 am]

BILLING CODE 4910-13-P